INTERNATIONAL TRADE COMMISSION

[Investigation No. 337-TA-1194 (Enforcement Proceeding)]

Notice of Institution of Formal Enforcement Proceeding; Certain High-Density Fiber Optic Equipment and Components Thereof

AGENCY: U.S. International Trade Commission.

ACTION: Notice.

SUMMARY: Notice is hereby given that the U.S. International Trade Commission has instituted a formal enforcement proceeding relating to the General Exclusion Order (“GEO”) and Cease and Desist Order (“CDO”) issued against Panduit Corporation (“Panduit”) on August 3, 2021, in the above-referenced investigation.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted the original investigation on March 24, 2020, based on a complaint filed on behalf of Corning Optical Communications LLC (“Corning”) of Charlotte, North Carolina. 85 FR 16653 (Mar. 24, 2020). The complaint, as supplemented, alleged violations of section 337 of the Tariff Act of 1930, as amended, 19 U.S.C. 1337, in the importation into the United States, the sale for importation, or the sale within the United States after importation of certain high-density fiber optic equipment and components thereof by reason of infringement of certain claims of U.S. Patent Nos. 9,020,320 (“the '320 patent”); 10,120,153 (“the '153 patent”); 8,712,206 (“the '206 patent”); 10,094,996; and 10,444,456 (“the '456 patent”). Id. The Commission's notice of investigation named numerous respondents including Panduit of Tinley, Illinois. Id. The notice of investigation also named the Office of Unfair Import Investigations (“OUII”) as a party. Id. at 16654. The full investigation background is in the final termination notice. 86 FR 43564-65 (Aug. 9, 2021).

On August 3, 2021, the Commission found, inter alia, that Panduit violated section 337 with respect to claims 1 and 3 of the '320 patent; claims 11, 12, 14-16, 19, 21, 27, and 28 of the '456 patent; and claims 9, 16, 23, and 26 of the '153 patent. Id. at 43565. Specifically, the Commission found that Panduit's imported articles were used by customers to directly infringe the asserted claims of the '320, '456, and '153 patents at Panduit's inducement. Id. The Commission issued, inter alia, a GEO and a CDO against Panduit and determined that a bond as set forth in the Orders was required during the period of Presidential review. 19 U.S.C. 1337(j)(3).

On November 24, 2021, Corning filed a complaint requesting that the Commission institute an enforcement proceeding under Commission Rule 210.75, 19 CFR 210.75, to investigate alleged violations of the GEO and CDO by Panduit.

Having examined the enforcement complaint and the supporting documents, the Commission has determined to institute a formal enforcement proceeding, pursuant to 19 CFR 210.75(a), to determine whether violations of the GEO and CDO, issued on August 3, 2021, in the original investigation have occurred and to determine what, if any, enforcement measures are appropriate. The named respondent is Panduit. OUII is also named as a party. In the Order issued concurrently herewith, the Commission has referred this enforcement proceeding to the chief administrative law judge for designation of a presiding administrative law judge to conduct any necessary proceedings, issue an Enforcement Initial Determination, and make a recommendation on appropriate enforcement measures, if any.

The Commission vote for this determination took place on December 28, 2021.

The authority for the Commission's determination is contained in section 337 of the Tariff Act of 1930, as amended, 19 U.S.C. 1337, and in Part 210 of the Commission's Rules of Practice and Procedure, 19 CFR part 210.

Issued: December 28, 2021.
William Bishop,
Supervisory Hearings and Information Officer.

[FR Doc. 2021-28448 Filed 12-30-21; 8:45 am]

BILLING CODE 7020-02-P